DEPARTMENT OF COMMERCE

International Trade Administration

[A-570-878]

Persulfates From the People's Republic of China: Final Results of the 2009-2010 Antidumping Duty Administrative Review

AGENCY: Import Administration, International Trade Administration, Department of Commerce.

SUMMARY: On March 11, 2011, the Department of Commerce (“Department”) published its Preliminary Results for the administrative review of the antidumping duty order on persulfates from the People's Republic of China (“PRC”) covering the period July 1, 2009, through June 30, 2010.¹ We invited interested parties to comment on our Preliminary Results. FMC Corporation (“FMC”), a domestic producer of persulfates and an interested party in this review, commented that it fully supports our Preliminary Results. No other party submitted comments. Therefore, the Preliminary Results are hereby adopted as the final results.

¹ See Persulfates From the People's Republic of China: Preliminary Results of the 2009-2010 Antidumping Duty Administrative Review, 76 FR 13358 (March 11, 2011) (“Preliminary Results”).

DATES: Effective Date: May 17, 2011.

FOR FURTHER INFORMATION CONTACT: Brandon Petelin or Charles Riggle, AD/CVD Operations, Office 8, Import Administration, International Trade Administration, U.S. Department of Commerce, 14th Street and Constitution Avenue, NW., Washington, DC 20230; telephone: (202) 482-8173 and (202) 482-0650, respectively.

SUPPLEMENTARY INFORMATION:

Background

On March 11, 2011, the Department published its Preliminary Results for the administrative review of the antidumping duty order on persulfates from the PRC covering the July 1, 2009, through June 30, 2010, period of review (“POR”). For the Preliminary Results, because United Initiators (Shanghai) Co., Ltd. (“United Initiators”) did not respond to the Department's questionnaire, we were unable to determine if United Initiators was eligible for a separate rate.² United Initiators did not rebut the Department's presumption of government control and was, therefore, presumed to be part of the PRC-wide entity. Further, in accordance with sections 776(a)(2)(A) and (B) of the Tariff Act of 1930, as amended (“Act”), because the PRC-wide entity (including United Initiators) failed to cooperate to the best of its ability by not responding to our questionnaire, we found it appropriate to use adverse facts available.³ On March 21, 2011, FMC submitted comments stating that it fully supports the Department's Preliminary Results. No other party submitted comments.

² On October 8, 2010, the Department confirmed that United Initiators signed for and received our mailing of the antidumping duty questionnaire. United Initiators did not respond to the Department's antidumping duty questionnaire. On January 3, 2011, the Department placed on the record of this administrative review the UPS International Air Waybill receipt and delivery confirmation for the questionnaire issued to United Initiators to confirm that we mailed, and United Initiators received and signed for, the questionnaire.

³ See Preliminary Results.

Scope of the Order

The products covered by this review are persulfates, including ammonium, potassium, and sodium persulfates. The chemical formula for these persulfates are, respectively, (NH4)2S2O8, K2S2O8, and Na2S2O8. Potassium persulfates are currently classifiable under subheading 2833.40.10 of the Harmonized Tariff Schedule of the United States (“HTSUS”). Sodium persulfates are classifiable under HTSUS subheading 2833.40.20. Ammonium and other persulfates are classifiable under HTSUS subheadings 2833.40.50 and 2833.40.60. Although the HTSUS subheadings are provided for convenience and customs purposes, our written description of the scope of this review is dispositive.

Analysis of Comments Received

On March 21, 2011, FMC submitted comments stating that it fully supports our Preliminary Results. Because no other party commented on the Preliminary Results, we have adopted the Preliminary Results as the final results, including the margin determined therein.⁴

⁴ See id.

Final Results of Review

We find that the following weighted-average dumping margin exists for the July 1, 2009, through June 30, 2010, POR:

Manufacturer/Exporter | Margin (percent)
PRC-Wide Entity * | 119.02
* The PRC-wide entity includes United Initiators.

Assessment Rates

The Department has determined, and U.S. Customs and Border Protection (“CBP”) shall assess, antidumping duties on all appropriate entries covered by this review. The Department intends to issue assessment instructions to CBP 15 days after the publication date of the final results of this review.

Cash Deposit Requirements

The following deposit requirements will be effective upon publication of this notice of final results of administrative review for all shipments of subject merchandise entered, or withdrawn from warehouse, for consumption on or after the date of publication, as provided by section 751(a)(2)(C) of the Act: (1) For the PRC-wide entity (which includes United Initiators), the cash deposit rate will be the PRC-wide rate established in these final results of review; (2) for previously investigated or reviewed PRC and non-PRC exporters not listed above that have separate rates, the cash deposit rate will continue to be the exporter-specific rate published for the most recent period; (3) for all PRC exporters of subject merchandise that have not been found to be entitled to a separate rate, the cash deposit rate will be the PRC-wide rate; and (4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice of the final results of this administrative review is issued and published in accordance with sections 751(a)(1) and 777(i)(1) of the Act.

Dated: May 10, 2011.
Ronald K. Lorentzen,
Deputy Assistant Secretary for Import Administration.

[FR Doc. 2011-12093 Filed 5-16-11; 8:45 am]

BILLING CODE 3510-DS-P